DEPARTMENT OF THE TREASURY

Community Development Financial Institutions Fund

Notice of Funds Availability Inviting Applications for the Community Development Financial Institutions Fund—Bank Enterprise Award Program: Change of Application Deadlines; Corrections

AGENCY: Community Development Financial Institutions Fund, Department of the Treasury.

ACTION: Change of application deadlines; corrections.

Change of Application Deadlines: On February 4, 2003, the Community Development Financial Institutions Fund (the “Fund”) announced in a NOFA for the BEA Program (68 FR 5727 (2003)) that the deadline for applications for BEA Program awards was July 17, 2003, for those applicants that opt to apply under the 6-month baseline/assessment period, as defined in 12 CFR 1806.103(k) and (f), respectively, and as further specified in the NOFA (the “6-month option”).

This notice is to announce that the Fund is extending until 5 p.m., July 23, 2003 the deadline for the submission of applications for BEA Program awards for those applicants that apply under the 6-month option, for the FY 2003 funding round.

Correction

Section X of the February 4, 2003 NOFA states incorrectly that the award percentage applicable to an Equity Investment in CDFI shall be 15 percent for if the applicant is CDFI, and 5 percent if the applicant is not a CDFI. 68 FR 5730 (2003). The correct award percentage for an Equity Investment in a CDFI shall be 15 percent for all applicants, whether such applicant is a CDFI, or not.

All other information and requirements set forth in the February 4, 2003 NOFA for the BEA Program shall remain effective, as published.

FOR FURTHER INFORMATION, CONTACT: If you have any questions about the programmatic requirements for this program, contact the Depository Institutions Manager. If you have questions regarding administrative requirements, contact the Fund's Awards Manager. The Depository Institutions Manager and the Awards Manager may be reached by e-mail at cdfihelp@cdfi.treas.gov, by telephone at (202) 622-6355, by facsimile at (202) 622-7754, or by mail at CDFI Fund, 601 13th Street, NW., Suite 200 South, Washington, DC 20005.

These are not toll free numbers.

Authority: 12 U.S.C. 1834a, 4703, 4703 note, 4704, 4706, 4707, 4713, 4717; 12 CFR part 1806.

Dated: March 10, 2003.
Tony T. Brown,
Director, Community Development Financial Institutions Fund.

[FR Doc. 03-6148 Filed 3-13-03; 8:45 am]

BILLING CODE 4810-70-P